DEPARTMENT OF THE INTERIOR

National Park Service

[NPS-WASO-NAGPRA-NPS0032390; PPWOCRADN0-PCU00RP14.R50000]

Notice of Inventory Completion: John Michael Kohler Arts Center, Sheboygan, WI

AGENCY: National Park Service, Interior.

ACTION: Notice.

SUMMARY: The John Michael Kohler Arts Center has completed an inventory of human remains, in consultation with the appropriate Indian Tribes or Native Hawaiian organizations and has determined that there is a cultural affiliation between the human remains and present-day Indian Tribes or Native Hawaiian organizations. Lineal descendants or representatives of any Indian Tribe or Native Hawaiian organization not identified in this notice that wish to request transfer of control of these human remains should submit a written request to the John Michael Kohler Arts Center. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the John Michael Kohler Arts Center at the address in this notice by September 10, 2021.

FOR FURTHER INFORMATION CONTACT: Sam Gappmayer, John Michael Kohler Arts Center, 608 New York Avenue, Sheboygan, WI 53081, telephone (920) 694-4526, email sgappmayer@jmkac.org.

SUPPLEMENTARY INFORMATION: Notice is here given in accordance with the Native American Graves Protection and Repatriation Act (NAGPRA), 25 U.S.C. 3003, of the completion of an inventory of human remains under the control of the John Michael Kohler Arts Center, Sheboygan, WI. The human remains were removed from Sheboygan, Sheboygan County, WI.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the John Michael Kohler Arts Center professional staff in consultation with representatives of the Winnebago Tribe of Nebraska.

History and Description of the Remains

In the early 1990s, human remains representing at minimum, two individuals were removed from native burial sites in what is now Sheboygan, Sheboygan County, WI, by Rudolph Kuehne. After his death, in the late 1920s, Kuehne's widow sold the Kuehne collection—the remains of the two individuals and 5,816 objects—to the Kohler Foundation. The collection was packed away and not studied until 1968, when it was examined by John Michael Kohler Arts Center staff while preparing an exhibit, at which time the human remains described in this notice were discovered. The human remains belong to two individuals of unidentified age and sex. No known individuals were identified. A Notice of Intent to Repatriate Cultural Items for the 5,816 objects was published in the Federal Register on June 10, 2020 (85 FR 35438, June 10, 2020).

Determinations Made by the John Michael Kohler Arts Center

Officials of the John Michael Kohler Arts Center have determined that:

• Pursuant to 25 U.S.C. 3001(9), the human remains described in this notice represent the physical remains of two individuals of Native American ancestry.

• Pursuant to 25 U.S.C. 3001(2), there is a relationship of shared group identity that can be reasonably traced between the Native American human remains and the Winnebago Tribe of Nebraska.

Additional Requestors and Disposition

Lineal descendants or representatives of any Indian Tribe or Native Hawaiian organization not identified in this notice that wish to request transfer of control of these human remains should submit a written request with information in support of the request to Sam Gappmayer, John Michael Kohler Arts Center, 608 New York Avenue, Sheboygan, WI 53081, telephone (920) 694-4526, email sgappmayer@jmkac.org, by September 10, 2021. After that date, if no additional requestors have come forward, transfer of control of the human remains to the Winnebago Tribe of Nebraska may proceed.

The John Michael Kohler Arts Center is responsible for notifying the Winnebago Tribe of Nebraska that this notice has been published.

Dated: July 28, 2021.
Melanie O'Brien,
Manager, National NAGPRA Program.

[FR Doc. 2021-17061 Filed 8-10-21; 8:45 am]

BILLING CODE 4312-52-P